DEPARTMENT OF STATE

[Public Notice 5334]

Bureau of Educational and Cultural Affairs (ECA) Request for Grant Proposals: Youth Leadership Program: Linking Individuals, Knowledge and Culture (LINC)

Announcement Type: New Grant.

Funding Opportunity Number: ECA/PE/C/PY-06-25.

Catalog of Federal Domestic Assistance Number: 00.000.

Key Dates: Application Deadline: April 27, 2006.

Executive Summary: The Youth Programs Division, Office of Citizen Exchanges of the Bureau of Educational and Cultural Affairs, announces an open competition for LINC projects under the Youth Leadership Program. Public and private non-profit organizations meeting the provisions described in Internal Revenue Code section 26 U.S.C. 501(c)(3) may submit proposals to implement projects for youth in the United States and specified countries around the world. These projects will involve an educational and cultural exploration of one of three themes and will promote mutual understanding through reciprocal exchanges of three- to six-weeks each.

I. Funding Opportunity Description

Purpose: The Bureau of Educational and Cultural Affairs (ECA) and the Public Affairs Sections (PAS) of U.S. missions overseas are supporting the participation of youth in intensive, substantive exchanges through the LINC (Linking Individuals, Knowledge, and Culture) Program. This program is designed to foster mutual understanding between youth participants (ages 15-17) from the United States and from countries around the world through three to six week reciprocal exchange projects that enhance the participants' knowledge of their host country's history, culture, and system of government. Through these people-to-people exchanges, the Bureau seeks to break down stereotypes that divide peoples, promote good governance, contribute to conflict prevention and management, and build respect for cultural expression and identity in a world that is experiencing rapid globalization.

The overarching goals of the LINC Program are:

(1) To develop a sense of civic responsibility and commitment to community development among youth;

(2) To foster relationships among youth from different ethnic, religious, and national groups;

(3) To engage youth in building bridges of understanding and respect between the people of the United States and the people of other countries; and

(4) To develop a cadre of alumni with the skills and knowledge to transform their communities and countries.

Projects will also be designed to foster dialogue and joint activities around one of three themes: (1) Responsible Governance and Citizen Activism in Civil Society; (2) Using Arts and Culture for Inter-community Leadership Dialogue; and (3) Science and Technology. Proposals that target themes not listed below will be deemed technically ineligible. ECA will accept proposals for either multiple-country or single-country projects.

Applicants should present a rationale for a multiple-country application, and describe how participants from the various countries will interact with one another. In general ECA will be looking to fund a geographically and thematically diverse group of projects, but makes no guarantee that grants will be awarded for specific countries or in all themes.

The Department requests proposals only with the partner countries identified in the list below. Since the exchanges under this program are reciprocal, programs for these countries will be subject to U.S. Department of State travel advisories.

Sub-Saharan Africa: Mozambique, Tanzania, Ethiopia, Kenya, Uganda, Nigeria, Ghana, Cameroon

East Asia and Pacific: China, Malaysia, Thailand

North Africa and Middle East: Algeria, Bahrain, Egypt, Morocco, Oman, Tunisia, West Bank/Gaza

South Asia: Bangladesh, India

Each theme has specific aims, as outlined below. Applicants should identify their own specific objectives and measurable outcomes based on these program goals and the project specifications provided in this solicitation. Participants will be engaged in a variety of activities such as workshops, community and/or school-based programs, cultural activities, seminars and other activities designed to achieve the projects' stated goals and objectives. Opportunities for participants to interact with American youth and adult educators will be included as much as possible.

Grants will support the travel of foreign students to the United States and Americans to the overseas partner countries. The minimum duration of stay is three weeks, but longer stays (up to six weeks) are possible under these grants. During the exchanges, the students will participate in activities designed to teach them about community life, citizen participation, and the culture of the host country in addition to the thematic program activities. The program will introduce the visitors to the community—its leaders and institutions and the ways citizens participate in local government and the resolution of societal problems—and will include educational excursions that serve to enhance the visitors' understanding of the history, culture, political institutions, ethnic diversity, and environment of the region. ECA requires participation in a community service project. Participants should also have opportunities to give presentations on their countries and cultures in community forums. After the exchanges, well-organized follow-on activities for alumni are an essential program component. Homestays will be the norm, although participants may spend a modest portion of their time as a group in a hotel or dormitory setting. Note: Delegations should have adults travel with them. These adults may be project staff, teachers, or chaperones. All should be considered exchange participants for program planning and budgetary purposes.

Applicants must demonstrate their capacity for conducting projects of this nature, focusing on three areas of competency: (1) Provision of programs aimed at achieving the goals and themes outlined in this document; (2) age-appropriate programming for the target audience; and (3) experience in working with the proposed partner country or countries. U.S. applicant organizations need to have the necessary capacity in the partner country, with either its own offices or a partner institution. The requisite capacity of both the U.S. organization and its overseas partner includes the ability to recruit and select participants, organize substantive exchange activities, provide follow-on activities, and handle the logistical and financial arrangements.

For the purposes of this solicitation, reciprocity means a two-way exchange: A delegation traveling from the partner country (or countries) to the United States and a delegation traveling from the United States to the partner country (or countries). The delegations do not have to be exactly equal in size or in their duration of stay (as long as the stay is between three and six weeks), though significant deviations from full reciprocity must be justified. Of key importance is the reciprocity of the learning experience for the American and foreign participants. Applicants are instructed to treat the exchange and follow-on activities in each country with equal importance, with active learning on both sides, and challenging, interesting, goal-oriented educational activities for both delegations.

Themes: Applicants should select one of these three themes for its program offering and clearly indicate how program activities will support the theme as described below. They are not in any order of priority. Woven throughout the program activities should be guidance and training that help the youth participants develop leadership skills including, for example, influential public speaking, team-building, critical thinking, and goal-setting, so that they are prepared to take action with what they have learned.

The program delivery should be primarily interactive activities, practical experiences, and other hands-on opportunities to learn about the fundamentals of a civil society, community service, tolerance and respect for diversity, and building leadership skills. The activities could include a mix of workshops, simulations and role-playing, team-building exercises, a volunteer service project, leadership training exercises, meetings, classroom visits, site visits, training, and social time among peers. Many of these should be planned in conjunction with participation in school and community activities in a way that is mutually educational for the exchange participants and their American hosts/peers. All programming should include American participants wherever possible. Cultural and recreational activities will balance the schedule.

Programs may consist of components that are part of an already existing activity, such as participation of exchange participants in a pre-established camp or workshop. If this is proposed, however, it needs to fulfill all of the stated objectives or do so in conjunction with other activities scheduled just for these delegations.

(1) Responsible Governance and Citizen Activism in Civil Society

ECA welcomes projects that provide an intensive experience in educating participants on the rights and responsibilities of a citizen in a civil society. Activities will provide participants with a theoretical review of civic education that is then followed up with practical, hands-on experiences to apply lessons learned to real-life situations. Project activities may include case studies, training in project planning, reviewing how to identify community issues and exploring ways that they can be addressed through public policy and through citizen action.

Projects should demonstrate for youth the principles of fair and transparent governance responsive to its citizenry and should promote dialogue among youth on this theme. Projects must be culturally sensitive and address specific needs of the partner country or countries. Individual projects might have the young participants explore ways that a country's government, academic institutions, media, and non-governmental organizations can encourage and support the involvement of its citizenry, increase citizen trust, and expand the democratic process.

All activities should relate to demonstrating citizen participation in governance and in addressing societal concerns, such as rule of law, ecological awareness, small business entrepreneurship, and tolerance. Participants should have a chance to see leaders in action.

(2) Using Arts and Culture for Inter-community Leadership Dialogue

The nature and quality of relationships between communities are critical determinants of sustainable democratic and civil societies throughout the world. Moving from relationships based on mistrust to those rooted in mutual recognition and trust is a key factor in bridging social differences, strengthening communication, and mitigating conflict. The arts and humanities have always served as an effective venue through which the quality of relationships can be better understood and improved by facilitating and increasing interactions between communities in numerous situations and settings—communal, economic, personal, political, and social.

Projects for this theme should provide artistic and cultural forums, rooted in the humanities, for youth to communicate and work with one another, as well as explore what makes the arts unique in each of the project's participating countries. Teenagers representing diverse communities will participate in arts and humanities programs, through both in-school and out-of-school enrichment projects, designed to bridge cultural and social differences, to foster creative interaction among youth, and to develop skills necessary for personal, academic and future professional leadership in their communities. Examples of projects must be collaborative in nature and may include dance, music, theater, and visual art projects that creatively bring participants of diverse backgrounds together in the goal of fostering mutual understanding, developing leadership skills, and modeling positive behavior for their peers through the arts. In the process, participants will have the chance to share experiences and views while acquiring listening, communication, and negotiation skills that allow them to explore differences and commonalities, build trust, address divisive issues, develop empathy and understanding for one another, and create long-term bonds.

In addition to creative arts and humanities collaborative activities, the program will include meetings with community members and government officials. Topics such as the essential attributes of leadership, teambuilding, and effective communication and problem-solving skills should be interlinked with other activities.

Proposals must demonstrate strong expertise in the target country and local community(ies) to address effectively the sensitive and competing interests of target populations. Applicants should demonstrate their knowledge of the diversity of the community and explain how the population is in need of and will benefit from this program promoting inter-community dialogue. Proposals to send or receive touring performance groups (bands, choirs, drama troupes, etc.) are not eligible for this competition.

(3) Science and Technology

Projects on the theme of science and technology will promote international cooperation in the areas of scientific research while introducing exchange participants to their peers in other countries. This theme encompasses science, technology, engineering, and mathematics, and specifically includes the conduct of science, that is, the development of critical inquiry skills, innovation, scientific method, and experimentation.

Participants should be advanced students with a demonstrated interest in science and technology and a desire to pursue a career in an associated field. The exchange activities will enable them to explore these fields in depth and to develop their skills of scientific investigation, including critical thinking, problem solving, and complex communication.

In addition to encouraging individual development, program activities will also involve participants in discussions on the role of science and technology in promoting democratic values, economic and social development, and the education necessary to provide adequate workforce development.

Activities may include participation in science competitions and fairs, as well as visits to museums and meetings with representatives of the scientific community. Applicants may wish to include e-learning components in their proposed projects.

Guidelines: Grant periods should begin on or about August 15, 2006. The grant period may be between 12 and 18 months in duration.

The program responsibilities of the grant recipient for each project include recruitment and selection of exchange participants, preparation for the exchanges, the program activities during the exchanges, and follow-on activities after the exchanges. These responsibilities are detailed in the Project Objectives, Goals, and Implementation (POGI) document.

Programs must comply with J-1 visa regulations. Please refer to the Solicitation Package for further information.

II. Award Information

Type of Award: Grant Agreement.

Fiscal Year Funds: 2006.

Approximate Total Funding: $900,000.

Approximate Number of Awards: 4 to 8.

Floor of Award Range: $50,000.

Ceiling of Award Range: $250,000.

Anticipated Award Date: August 15, 2006.

Anticipated Project Completion Date: 12-18 months after start date, to be specified by applicant based on project plan.

Additional Information: Pending successful implementation of the projects and the availability of funds in subsequent fiscal years, ECA reserves the right to renew grants for up to two additional fiscal years before openly competing grants under this program again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Grants awarded to eligible organizations with less than four years of experience in conducting international exchange programs will be limited to $60,000.

IV. Application and Submission Information:

Note: Please read the complete Federal Register announcement before sending inquiries or submitting proposals. Once the RFGP deadline has passed, Bureau staff may not discuss this competition with applicants until the proposal review process has been completed.

IV.1 Contact Information to Request an Application Package: Please contact the Youth Programs Division, ECA/PE/C/PY, U.S. Department of State, SA-44, 301 4th Street, SW., Room 568, Washington, DC 20547, (202) 453-8148, Fax (202) 203-7529, E-mail: ShubairDM@state.gov to request a Solicitation Package. Please refer to the Program Title and the Funding Opportunity Number (ECA/PE/C/PY-05-25) located at the top of this announcement when making your request.

The Solicitation Package contains the Project Objectives, Goals and Implementation (POGI) document and Proposal Submission Instruction (PSI) document, which consists of required application forms, and standard guidelines for proposal preparation.

Please specify Bureau Program Officer David Shubair and refer to the Funding Opportunity Number located at the top of this announcement on all other inquiries and correspondence.

IV.2. To Download a Solicitation Package Via Internet: The entire Solicitation Package may be downloaded from the Bureau's website at http://exchanges.state.gov/education/rfgps/menu.htm. Please read all information before downloading.

IV.3. Content and Form of Submission: Applicants must follow all instructions in the Solicitation Package. The original and eight copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 form that is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa. The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 203-5029, FAX: (202) 453-8640.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Budget Guidelines. Please take the following information into consideration when preparing your budget:

IV.3e.1. Applicants must submit a comprehensive budget for the entire program. Grant requests must not be less than $50,000 nor greater than $250,000. There are no specific country allocations. The Bureau anticipates awarding multiple grants; the exact number of grants will be based on the number, quality, and regional diversity of the submitted proposals. The Bureau reserves the right to reduce, revise, or increase proposal budgets in accordance with the needs of the program and the availability of funds. Proposal budgets must include a summary budget as well as breakdowns reflecting both administrative and program budgets. Applicants may provide separate sub-budgets for each program component, phase, location, or activity to provide clarification.

Please refer to the Solicitation Package (both the POGI and the PSI) for complete budget guidelines and formatting instructions.

IV.3f. Submission Dates and Times: Application Deadline Date: Thursday, April 27, 2006.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original, one fully-tabbed copy, and seven copies of the application with Tabs A-E (for a total of 9 copies, bound with large binder clips and a title page with your organization name clearly marked) should be sent to: U.S. Department of State, SA-44, Bureau of Educational and Cultural Affairs, Ref.: ECA/PE/C/PY-06-25, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

Applicants must also submit the executive summary, proposal narrative, budget section, and any important appendices as e-mail attachments in Microsoft Word and Excel to the following e-mail address: ShubairDM@state.gov. In the e-mail message subject line, include the name of the applicant organization and the partner country(ies). The Bureau will transmit these files electronically to the Public Affairs Sections of the relevant U.S. embassies for review.

V. Application Review Information

V.1. Review Process. The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

The proposal review criteria are outlined in the accompanying Project Objectives, Goals, and Implementation (POGI) document.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following websites for additional information: http://www.whitehouse.gov/omb/grants. http://exchanges.state.gov/education/grantsdiv/terms.htm#articleI.

VI.3. Reporting Requirements: You must provide ECA with a hard copy original plus one copy of the following reports:

(1) A final program and financial report no more than 90 days after the expiration of the award;

(2) Interim reports, as required in the Bureau grant agreement.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. The ECA Program Officer must receive final schedules for in-country and U.S. activities at least three working days prior to the official opening of the activity.

VII. Agency Contacts

For questions about this announcement, contact: David Shubair, Program Officer, Youth Programs Division, ECA/PE/C/PY, Room 220, U.S. Department of State, SA-44, 301 4th Street, SW., Washington, D.C. 20547, (202) 453-8148, fax (202) 203-7529, e-mail: ShubairDM@state.gov.

All correspondence with the Bureau concerning this RFGP should reference the above title and number ECA/PE/C/PY-06-25.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: February 24, 2006.
C. Miller Crouch,
Principal Deputy Assistant Secretary, Bureau of Educational and Cultural Affairs, Department of State.

[FR Doc. E6-2977 Filed 3-1-06; 8:45 am]

BILLING CODE 4710-05-P